DEPARTMENT OF DEFENSE

Department of the Army

Availability of the Supplemental Draft Environmental Impact Statement for the Construction and the Operation of a Battle Area Complex and a Combined Arms Collective Training Facility Within U.S. Army Training Lands in Alaska

AGENCY: Department of the Army, DoD.

ACTION: Notice.

SUMMARY: The Army announces the availability of a Supplemental Draft Environmental Impact Statement (SDEIS) for the construction and operation of a Battle Area Complex (BAX) and a Combined Arms Collective Training Facility (CACTF) within U.S. Army training lands in Alaska, and the execution of routine, joint military training at these locations. The purpose of the proposed project is to provide year-round, fully automated, comprehensive and realistic training and range facilities for U.S. Army, Alaska and other units. The SDEIS analyzes the proposed action's impacts upon Alaska's natural and man-made environments. The Army's review of comments received following the initial Draft EIS release in November 2004 resulted in the decision by the Army to prepare a SDEIS. The Army prepared this SDEIS in compliance with the National Environmental Policy Act (NEPA).

DATES: Written comments on the SDEIS are invited during the 45-day public comment period, which begins on the date the U.S. Environmental Protection Agency publishes notice of receipt of the SDEIS in the Federal Register.

ADDRESSES: Written comments should be directed to: Mr. Kevin Gardner, U.S. Army Garrison Alaska, 724 Postal Service Loop #4500, Attention: IMPA-FRA-PWE (GARDNER), Fort Richardson, AK 99505-4500; facsimile: (907) 384-3047; e-mail: kevin.gardner@richardson.army.mil.

FOR FURTHER INFORMATION CONTACT: Major Kirk Gohlke, Public Affairs Officer, telephone: (907) 384-1542; facsimile: (907) 384-2060; e-mail: kirk.gohlke@richardson.army.mil.

SUPPLEMENTARY INFORMATION: U.S. Army, Alaska (USARAK) proposes to construct and to operate two state-of-the-art, fully automated and instrumented combat training facilities on U.S. Army training lands in Alaska. This involved the construction and operation of a BAX (rural environment) and CACTF (urban environment). The BAX requires approximately 3,500 acres and the CACTF requires 1,100 acres of land suitable for the construction and operation of these ranges. In addition, surface danger zones are required for both the BAX and CACTF.

The purpose of the proposed action is to provide year-round, fully automated, comprehensive, and realistic training and range facilities, which, in combination, would support company (200 Soldiers) through battalion (800 Soldiers) combat team training events. The construction and operation of a BAX and CACTF would support required higher levels of realistic combat training in both urban and rural environments. Automated facilities would be used to provide timely feedback that is critical to effective training.

The BAX and CACTF would fully train Soldiers for war by maintaining unit readiness and availability in recognition of the threats facing our nation and the world today. The BAX would support company combat team live-fire operations on a fully automated rural maneuver range and would provide for joint combined arms team training with other Department of Defense organizations. The CACTF would support battalion combat team training and joint operations in an urban environment.

The changes and additional analysis in the SDEIS are the result of public and agency comments following the initial release of the Draft EIS. The SDEIS provides additional analysis on such issues as: Project site selection; soil resources; wildlife and fisheries; cultural resources; surface water (particularly local flooding events); fire management; noise; human health and safety; airspace use; and mitigation. These issues have been analyzed based on the following proposed alternative courses of action: (1) No Action (maintain existing range infrastructure without constructing a BAX and a CACTF); (2) Construction and operation of a BAX and a CACTF within the Eddy Drop Zone; (3) Construction and operation of a BAX and a CACTF within the Donnelly Drop Zone; (4) Construction and operation of a BAX and a CACTF within the North Texas Range; and (5) Construction and operation of a BAX within the North Texas Range and a CACTF within the Eddy Drop Zone (new alternative). These three locations are within Donnelly Training Area, East, which is adjacent to Fort Greely, AK. The preferred alternative is to construct and operate a BAX and CACTF at Eddy Drop Zone.

Copies of the SDEIS are available for review at the following locations: Noel Wien Public Library, 1215 Cowles Street, Fairbanks, AK; Delta Junction Public Library, Deborah Street, Delta Junction, AK; Donnelly Training Area Natural Resources Office, Building T100, Room 201, Fort Greely, AK; and Fort Wainwright Environmental Resources Department, Building 3023, Fort Wainwright, AK. A copy of the SDEIS may be obtained at the following Web site: http://www.usarak.army.mil/conservation, or by contacting Major Kirk Gohlke (listed above).

Comments on the SDEIS, received during the 45-day public comment period, will be considered in preparing the Final Environment Impact Statement. The Army will hold public meetings to solicit comments on the SDEIS. Notification of the dates, times and locations for the meeting will be published in local newspapers.

John M. Brown III,
Lieutenant General, USA, Commanding General, US Army, Pacific.

[FR Doc. 06-2605 Filed 3-16-06; 8:45 am]

BILLING CODE 3710-08-M